DEPARTMENT OF STATE

[Public Notice #4405]

Notice of Meetings: United States International Telecommunication Advisory Committee Preparations for Various Telecommunication Standardization Meetings Second Half of 2003

The Department of State announces meetings of the U.S. International Telecommunication Advisory Committee (ITAC). The purpose of the Committee is to advise the Department on policy, technical and operational issues with respect to international telecommunications standardization bodies such as the International Telecommunication Union (ITU).

The ITAC will meet periodically throughout the second half of 2003 to prepare for various ITU Telecommunication Standardization Study Group meetings. Times and locations of these meetings will be announced via the e-mail reflectors (list servers) identified below. People may join these reflectors by sending a message identifying the list they wish to join to itac@state.gov.

TSAG Preparations: The ITAC will meet July 31, September 3, September 30 and October 22 to prepare for the November 10-14 meeting of the ITU-T Telecommunication Sector Advisory Group (TSAG). Location and times for these meetings will be announced on the reflector list itac-t@almsntsa.lmlist.state.gov.

ITU-T Study Group 2 preparations: The ITAC will meet October 7, 2003 in the Washington, DC area to prepare for the next ITU-T Study Group 2 meeting, which is to be held from October 21-31. Location and time for this ITAC meeting will be announced on the reflector list sganumberingadhoc@almsntsa.lmlist.state.gov.

ITU-T Study Group 3 preparations: The ITAC will meet on August 6, September 10, October 8 and October 29 to prepare for the next ITU-T Study Group 3 meeting which is to be held from November 17-21. Location and time for these ITAC meetings will be announced on the reflector list sga@almsntsa.lmlist.state.gov.

ITU-T Study Group 9 preparations: The ITAC will meet December 9 to prepare for the next ITU-T Study Group 9 meeting, which is to be held from January 15-24, 2004. Location and time for this ITAC meeting will be announced on the reflector list sgd@almsntsa.lmlist.state.gov.

ITU-T Study Group 11 and 15 preparations: The ITAC will meet on August 8, 2003 at the Sheraton Colorado Springs Hotel, 2886 S. Circle Drive, Colorado Springs, Colorado 90906, telephone (719) 576-5900 to prepare for the ITU Study Group 11 meeting to be held September 1-12, 2003 and for the ITU-T Study Group 15 meeting to be held October 21-31, 2003. The U.S. ITAC meeting will begin 30 minutes after closure of the T1A1/T1P1/T1S1 Plenaries. Persons planning to attend the August 8 U.S. ITAC meeting should give their names and organization not later than August 4 to Marcie Geissinger, marciegeissinger@msn.com or (303) 499-2145. The agenda for the August 8, 2003 meeting will be announced on the reflector list sgb@almsntsa.lmlist.state.gov.

ITU-T Study Group 15 and 4 preparations: The ITAC will meet on September 19, 2003 at the Marriott Hartford Farmington, 15 Farm Springs Road, Farmington, Connecticut 06032, telephone (860) 678-1000 or (800) 228-9290 to prepare for the ITU-T Study Group 15 meeting to be held from October 21-31, 2003 and the ITU-T Study Group 4 meeting to be held from October 27-November 7, 2003. The ITAC meeting will begin 30 minutes after the closure of the T1X1 Plenary. Persons planning to attend the September 19 U.S. ITAC meeting should give their name and organization not later than September 16 to Marcie Geissinger, marciegeissinger@msn.com or at (303) 499-2145. The agenda for the September 19 meeting will be announced on the reflector list sgb@almsntsa.lmlist.state.gov.

ITU-T Study Group 12 preparations: The ITAC will meet August 27 to September 8, 2003 via e-mail on the reflector list sga@almsntsa.lmlist.state.gov to prepare for the ITU-T Study Group 12 meeting to be held from September 22-30. Originators must post their contributions to the reflector by August 27, 2003; comments on the documents must be posted to the same address by September 2; originators' responses must be posted by September 4, and final action will be posted by the Department of State no later than September 8, 2003. If necessary, this meeting may be continued through a later date via e-mail or conference call, as announced on the reflector.

ITU-T Study Group 17 preparations: The ITAC will meet August 14-27 via e-mail on the reflector list sgd@almsntsa.lmlist.state.gov to prepare for the ITU-T Study Group 17 meeting to be held from September 10-19. Originators must post their contributions to the reflector by August 14, 2003; comments on the documents must be posted to the same address by August 21; originators' responses must be posted by August 25, and final action will be posted by the Department of State no later than August 27. If necessary, this meeting may be continued through a later date via e-mail or conference call, as announced on the reflector.

ITU-T Special Study Group preparations: The ITAC will meet October 6-17, 2003 via e-mail on the reflector list “sgd-ssg@almsntsa.lmlist.state.gov” to prepare for the ITU-T Special Study Group (IMT2000 and beyond) meeting to be held from November 17-21, 2003. Originators must post their documents to the reflector by October 6; comments on the documents must be posted to the same address by October 10; originators' responses must be posted by October 15, and final action will be posted by the Department of State no later than October 17. If necessary, this meeting may be continued through a later date via e-mail or conference call, as announced on the reflector.

CITEL PCC I Group Preparations: The ITAC will meet on August 7, 2003, and September 9, 2003 to prepare for the next CITEL PCC I meeting. Location and times for these meetings will be announced on the reflector list PCCI-CITEL@almsntsa.lmlist.state.gov.

Members of the public will be admitted to the meetings to the extent that seating is available, and may join in the discussions, subject to the instructions of the Chair. Entrance to the Department of State is controlled; people intending to attend a meeting at the Department of State should send their clearance data by fax to (202) 647-7407 or e-mail to worsleydm@state.gov not later than 24 hours before the meeting. Please include the name of the meeting, your name, social security number, date of birth and organizational affiliation. One of the following valid photo identifications will be required for admittance: U.S. driver's license with your picture on it, U.S. passport, or U.S. Government identification. Directions to the meeting location may be obtained by calling the ITAC Secretariat at 202 647-2592 or e-mail to worsleydm@state.gov.

Dated: July 17, 2003.
Marian Gordon,
Director, Telecommunication & Information Standardization, Department of State.

[FR Doc. 03-18721 Filed 7-21-03; 8:45 am]

BILLING CODE 4710-45-P